DEPARTMENT OF HEALTH AND HUMAN SERVICES

Office of the Secretary

[Document Identifier: HHS-OS-0990-New-60D]

Agency Information Collection Activities; Proposed Collection; Public Comment Request

AGENCY: Office of the Secretary, HHS.

ACTION: Notice.

SUMMARY: In compliance with the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before April 3, 2017.

ADDRESSES: Submit your comments to Information.CollectionClearance@hhs.gov or by calling (202) 690-5683.

FOR FURTHER INFORMATION CONTACT: Information Collection Clearance staff, Sherrette.funn@hhs.gov or (202) 690-5683.

SUPPLEMENTARY INFORMATION: When submitting comments or requesting information, please include the document identifier HHS-OS-0990-New-60D for reference.

Proposed Project: Pregnancy Assistance Fund (PAF) Performance Measures Collection, FY2017-FY2019 cohort

Abstract: The Office of Adolescent Health (OAH), U.S. Department of Health and Human Services (HHS), is requesting approval by OMB of a new information collection request. In FY2017, OAH expects to award a new, 3-year cohort of Pregnancy Assistance Fund (PAF) grants. Performance measure data collection is a requirement of PAF grants and is included in the funding announcement.

Need and Proposed Use of the Information: The data collection will provide OAH with performance data to inform planning and resource allocation decisions; identify technical assistance needs for grantees; facilitate grantees' continuous quality improvement in program implementation; and provide Congress, OMB, and the general public with information about the individuals who participate in PAF-funded activities and the services they receive.

Likely Respondents: 20 PAF grantees (States and Tribes).

Burden Statement: Burden in this context means the time expended by persons to generate, maintain, retain, disclose, or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The table below summarizes the total annual burden hours estimated for this ICR.

Exhibit 1—Total Estimated Annualized Burden Hours
Forms (if necessary) | Type of respondent | Number of respondents | Number of responses per respondent | Average burden hours per respondent | Total burden hours
PAF Grantee-Program Measures | All Grantee Organization: Grantee Staff | 20 | 1 | 70 | 1400
| Total | 20 | 1 | 70 | 1400

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst Information Collection Clearance Officer.

[FR Doc. 2017-02160 Filed 1-31-17; 8:45 am]

BILLING CODE 4168-11-P